DEPARTMENT OF VETERANS AFFAIRS

Privacy Act of 1974; Matching Program

AGENCY: Department of Veterans Affairs (VA).

ACTION: Notice of a new matching program.

SUMMARY: The Department of Veterans Affairs (VA) provides notice that it intends to conduct a recurring computer-matching program matching Social Security Administration (SSA) Master Beneficiary Records (MBRs) and the Master Files of Social Security Number (SSN) Holders and SSN Applications (Enumeration System) with VA pension, compensation, and dependency and indemnity compensation (DIC) records. The goal of this match is to identify beneficiaries, who are receiving VA benefits and SSA benefits or earned income, and to reduce or terminate VA benefits, if appropriate. The match will include records of current VA beneficiaries.

DATES: Comments on this matching program must be received no later than 30 days after date of publication in the Federal Register. If no public comment is received during the period allowed for comment or unless otherwise published in the Federal Register by VA, the new agreement will become effective a minimum of 30 days after date of publication in the Federal Register. If VA receives public comments, VA shall review the comments to determine whether any changes to the notice are necessary. This matching program will be valid for 18 months from the effective date of this notice.

ADDRESSES: Comments may be submitted through www.Regulations.gov or mailed to VA Privacy Service, 810 Vermont Avenue NW, (005X6F), Washington, DC 20420. Comments should indicate that they are submitted in response to SSA's benefit data, CMA 1030. Comments received will be available at regulations.gov for public viewing, inspection or copies.

FOR FURTHER INFORMATION CONTACT: Jennifer Feuer, PFBUSMGMT.VBAVACO@VA.GOV, Pension and Fiduciary Service, Front Office, Pension and Fiduciary Service (21P), Department of Veterans Affairs, 810 Vermont Ave NW, Washington, DC, 20420, (202) 632-8863.

SUPPLEMENTARY INFORMATION: VA will use this information to verify the income information submitted by beneficiaries in VA's income-based benefit programs and adjust VA benefit payments as prescribed by law. The legal authority to conduct this match is 38 U.S.C. 5106, which requires any Federal department or agency to provide VA such information as VA requests for the purposes of determining eligibility for benefits or verifying other information with respect to payment of benefits.

Participating Agencies: The Social Security Administration (SSA) and Department of Veterans Affairs (VA).

Authority for Conducting the Matching Program: Federal law at 38 U.S.C. 5106 requires Federal agencies to furnish VA with information the VA Secretary may request for determining eligibility for or the amount of VA benefits.

Purpose(s): To update VA master records of VA beneficiaries and their dependents receiving income-dependent benefits and to adjust VA income-dependent benefits based on benefit information received from SSA regarding amount of SSA benefits.

Categories of Individuals: Veterans and beneficiaries who apply for VA income benefits.

Categories of Records: VA will provide SSA with an electronic file in a format defined by SSA that contains the Social Security number (SSN) for all beneficiaries in receipt of income-based VA benefits. SSA will provide an SSN verification for each record that VA submits based on a review of the Master Files of SSN Holders and SSN Applications (Enumeration System). SSA will provide Title II benefit data from the Master Beneficiary Record (MBR) for only those SSNs that verify against the Enumeration System.

System(s) of Records: SSA will disclose the necessary benefit information electronically from the MBR, system of records (SOR) number 60-0090, last fully published at 71 FR 1826 (January 11, 2006), amended at 72 FR 69723 (December 10, 2007), 78 FR 40542 (July 5, 2013), 83 FR 31250-31251 (July 3, 2018), 83 FR 54969 (November 1, 2018), and 89 FR 825 (January 5, 2024). SSA will disclose SSN verification information from the Enumeration System, SOR number 60-0058, last fully published at 87 FR 263 (January 4, 2022).

VA records involved in this match are in “VA Compensation, Pension, Education, and Vocational Rehabilitation and Employment Records—VA” (58 VA 21/22/28), a system of records that was first published at 41 FR 9294 (March 3, 1976), amended at 77 FR 42594 (July 19, 2012), and last amended and republished in its entirety at 84 FR 4138 (February 14, 2019), and amended at 86 FR 61858 (November 8, 2021).

Signing Authority

The Senior Agency Official for Privacy, or designee, approved this document and authorized the undersigned to sign and submit the document to the Office of the Federal Register for publication electronically as an official document of the Department of Veterans Affairs. John Oswalt, Chief Privacy Officer and Chair of the Data Integrity Board, Department of Veterans Affairs approved this document on August 28, 2024 for publication.

Dated: October 8, 2024.
Amy L. Rose,
Government Information Specialist, VA Privacy Service, Office of Compliance, Risk and Remediation, Office of Information and Technology, Department of Veterans Affairs.

[FR Doc. 2024-23570 Filed 10-10-24; 8:45 am]

BILLING CODE